DEPARTMENT OF AGRICULTURE

Forest Service

Bend/Ft. Rock Ranger District; Deschutes National Forest; Oregon; Dead Log Vegetation Management Project EIS

AGENCY: Forest Service, USDA.

ACTION: Notice of intent to prepare an environmental impact statement.

SUMMARY: The USDA, Forest Service, will prepare an environmental impact statement (EIS) on a proposed action to address forest health and hazardous fuels concerns within the 16,000-acre planning area known as the Deadlog Vegetation Project. The planning area is located about 36 miles southeast of Bend, Oregon; it is located in Township 22S, Range 15E, and Township 23S, Ranges 14E and 15E. The alternatives will include the proposed action, no action, and additional alternatives that respond to issues generated through the scoping process. The agency will give notice of the full environmental analysis and decision-making process so interested and affected people may participate and contribute to the final decision.

DATES: Comments concerning the scope of the analysis must be received by 30 days following the date that this notice appears in the Federal Register.

ADDRESSES: Send written comments to Phil Cruz, District Ranger, Bend/Ft. Rock Ranger District, 1230 NE 3rd St., Suite A-262, Bend, OR 97701.

FOR FURTHER INFORMATION CONTACT: Mark Macfarlane, Environmental Planner, Bend/Ft. Rock Ranger District, 1230 NE 3rd St., Suite A-262, Bend, Oregon, 97701, phone (541) 383-4044. E-mail mmacfarlane@fs.fed.us.

Responsible Official. The responsible official will be John Allen, Forest Supervisor, Deschutes National Forest, P.O. Box 1645 Hwy 20 East, Bend, OR 97701.

SUPPLEMENTARY INFORMATION: Purpose and Need. Many forest stands in the project area are sustaining a higher density of understory trees than they would have historically and are susceptible to bark beetle mortality. Large diameter trees are unable to compete with the younger, more vigorous trees for available resources. Also, understory trees and brush combined with a high degree of buildup of natural fuels on the forest floor are contributing to the risk of uncharacteristically severe fire behavior, should a wildfire start in the planning area. The purpose of the project is to:

• Manage stands of late old structure ponderosa pine to promote sustainability over the long term;

• In dense stands dominated by ponderosa pine, return stands toward historic conditions addressing tree species composition, stocking levels and resistance to insects, disease and fire mortality;

• Reduce surface fuels throughout the planning area to levels that will not sustain stand replacement fires; manage lodgepole pine stands to reduce the acres susceptible to bark beetle mortality;

• And reduce potential for the spread of ponderosa pine dwarf mistletoe.

Proposed Action. The proposed actions are intended to sustain, enhance, and protect long-term productivity and resiliency of the forest ecosystem, and maintain and enhance wildlife habitat. Proposed actions include selection harvest, commercial thinning, small tree thinning and ladder fuels reduction, activity fuels treatments, and mowing and prescribed underburning to treat natural fuels.

Issues. The following is a list of concerns or issues related to the proposed action that the interdisciplinary team has identified. Other issues may arise from public input. Where issues cannot be resolved through project design or mitigation, they may be the basis for developing alternatives to the Proposed Action.

• Deer Hiding Cover: In some parts of the Deadlog planning area, deer hiding cover is currently below Forest Plan standards. A Forest Plan Amendment will be necessary if proposed treatments reduce the level cover further.

• Open Road Density: The amount of roads in the planning area exceeds the target road density identified in the Forest Plan for deer summer range. Roads may be identified for closure or decommissioning.

• Heritage Resources: There are prehistoric and historic heritage resources within the planning area, that could be affected by either wildfire or the proposed active management of the fuels.

Comment. Public comments about this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to appeal the subsequent decision under 36 CFR parts 215 and 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within a specified number of days.

A draft EIS will be filed with the Environmental Protection Agency (EPA) and available for public review by October 2008. The EPA will publish a Notice of Availability (NOA) of the draft ETS in the Federal Register. The final ETS is scheduled to be available January 2009.

The comment period on the draft ETS will be 45 days from the date the EPA publishes the notice of availability in the Federal Register.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft ETS stage but that are not raised until after completion of the final ETS may be waived or dismissed by the courts [City of Angoon v. Harris, 490 F. Supp. 1334, 1338 (E.D. Wis. 1980)]. Because of these court rulings, it is very important that those interested in this proposed action participate by the close of the 45-day comment period so that substantive comments and objections are made available to the Forest Service at a time when it can meaningfully consider them and respond to them in the final ETS.

To assist the Forest Service in identifying and considering issues and concerns on the proposed action, comments on the draft ETS should be as specific as possible. It is also helpful if comments refer to specific pages or chapters of the draft statement. Comments may also address the adequacy of the draft ElS of the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment period for the draft EIS. The Forest Service is the lead agency and the responsible official is the Forest Supervisor, Deschutes National Forest. The responsible official will decide where, and whether or not to thin stands, and apply natural fuels treatments. The responsible official will also decide how to mitigate impacts of these actions and will determine when and how monitoring of effects will take place.

The Deadlog Vegetation Project decision and the reasons for the decision will be documented in the record of decision. That decision will be subject to Forest Service Appeal Regulations (35 CFR Part 215).

Rolando Mendez,
Bend/Ft. Rock Deputy District Ranger.

[FR Doc. E8-6899 Filed 4-3-08; 8:45 am]

BILLING CODE 3410-11-M